DEPARTMENT OF JUSTICE

[OMB Number 1105-NEW]

Agency Information Collection Activities; Proposed Collection; Comments Requested: New Collection [Creation of a Concept Map]

ACTION: 30-Day notice and request for comments.

The Department of Justice (DOJ), Civil Division will be submitting the following information collection request to the Office of Management and Budget (OMB) for review and approval in accordance with the Paperwork Reduction Act of 1995. The proposed information collection is published to obtain comments from the public and affected agencies. This proposed information collection was previously published in the Federal Register Volume 76, Number 71, page 20708-20709, on April 13, 2011, allowing for a 60 day comment period.

The purpose of this notice is to allow for an additional 30 days for public comment until August 11, 2011. This process is conducted in accordance with 5 CFR 1320.10.

Written comments concerning this information collection should be sent to the Office of Information and Regulatory Affairs, Office of Management and Budget, Attn: DOJ Desk Officer. The best way to ensure your comments are received is to e-mail them to oria_submission@omb.eop.gov or fax them to 202-395-7285. All comments should reference the 8 digit OMB number for the collection or the title of the collection. If you have questions concerning the collection, please call Laurie Feinberg at 202-305-1789 or the DOJ Desk Officer at 202-395-3176.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Summary of Collection

(1) Type of Information Collection: New collection.

(2) Title of the Form/Collection: Elder Justice Roadmap Project.

(3) Agency form number, if any, and the applicable component of the Department of Justice sponsoring the collection: None

(4) Affected public who will be asked or required to respond, as well as a brief abstract: Primary: Adult practitioners, advocates, and researchers in professions related to elder abuse. Other: none.

Need for Collection: The Department of Justice engages in activities targeted at elder abuse. A recent survey of the literature related to elder justice indicted that the field remains fragmented and without a clear set of priorities or a roadmap for advancement. The purpose of this data collection is to identify policy, practice, and research priorities in the field of elder abuse, neglect, and exploitation and to help develop a strategic roadmap for activities to address those priorities. In the first phase of the study, concept mapping will be used to create a visual representation of the ways that professionals in the field perceive the priorities for elder justice. Concept mapping is a well-documented method of applied research that makes explicit, implicit theoretical models that can be used for planning and action. The process requires respondents to brainstorm a set of statements relevant to the topic of interest (“brainstorming” task), individually sort these statements into piles based on perceived similarity (“sorting” task), rate each statement on one or more scales (“rating” task), and interpret the graphical representation that result from several multivariate analyses. The collection of data for all concept mapping activities will be facilitated via a dedicated project Web site. The second phase of the study includes a series of six face-to-face facilitated discussions with relevant stakeholder groups, practitioners, and researchers. In addition up to 9-12 interviews with experts in the various aspects of the field will be conducted to obtain their reaction to the preliminary concept map generated by the brainstorming, sorting, and rating process and asked to provide information about what may be missing, need amplification, or to be interrelated in a different manner than on the preliminary concept map. Guiding questions and discussion prompts, derived from the concept mapping results, will be used to gather information from the respondents on the meaning and potential use of the concept mapping results. This input will be aggregated and linked to the emerging conceptual framework that will result in a better understanding of the complex interrelationships between policy, practice, and research elements in the field of elder justice. Thus, the challenges, and needs of practitioners on the front lines will inform the work of researchers, and the researchers' findings will inform the work of policy makers and practitioners, and the policy makers will communicate with researchers and practitioners about what information they need to properly inform policy. A single concept mapping process will provide an efficient means for managing participation while simultaneously integrating perspectives that are complementary and mutually informative.

(5) An estimate of the total number of respondents and the amount of time estimated for an average respondent to respond: It is estimated that 750 respondents total will participate in the concept mapping phase of this collection, 60 respondents total will participate in the facilitated discussions, and 9-12 respondents will participate in the expert interviews. The table below shows the estimated number of respondents for each portion of the collection:

Task | Estimated time (minutes) per participant | Total participants per task | Total minutes per task
Brainstorming | 10 | 750 | 7,500
Sorting | 90 | 250 | 22,500
Rating | 60 | 750 | 45,000
Facilitated Discussions | 300 | 60 | 18,000
Expert Interviews | 90 | 12 | * 1,080
Total |  |  | 94,080 (= 1568 hours)
* = total minutes (= 1,568 hours).

The estimates assume 100% participation by all invited participants; the actual participation in brainstorming, sorting, and rating is likely to be less, but since we cannot predict the response rate, we are calculating the burden for all invited participants. The brainstorming task will take respondents 5-10 minutes to complete. The sorting task will take respondents approximately 60-90 minutes to complete. The rating task will take respondents approximately 30-60 minutes to complete. None of these tasks will require participants to complete in one sitting; rather, participants who respond on a Web site can return to work on task completion as often as they choose, until the task deadline. Respondents will have approximately 4 weeks to brainstorm and approximately 6 weeks to sort and rate. Facilitated discussions will require approximately 4-5 hours of respondents' time. Expert interviews will require no more than 90 minutes of respondents' time.

(6) An estimate of the total public burden (in hours) associated with the collection: There are an estimated 1,568 total public burden hours associated with this collection. This is planned to be a one-time data collection.

If additional information is required contact: Jerri Murray, Department Clearance Officer, United States Department of Justice, Policy and Planning Staff, Justice Management Division, Two Constitution Square, Room 2E-808, 145 N Street, NE., Washington, DC 20530.

Jerri Murray,
Department Clearance Officer, PRA, United States Department of Justice.

[FR Doc. 2011-17338 Filed 7-11-11; 8:45 am]

BILLING CODE 4410-12-P